DEPARTMENT OF TRANSPORTATION

Federal Aviation Administration

14 CFR Part 39

[Docket No. FAA-2012-1214; Directorate Identifier 2011-SW-071-AD; Amendment 39-17482; AD 2013-12-04]

RIN 2120-AA64

Airworthiness Directives; Eurocopter France Helicopters

AGENCY: Federal Aviation Administration (FAA), DOT.

ACTION: Final rule.

SUMMARY: We are adopting a new airworthiness directive (AD) for Eurocopter France Model EC 155B, EC155B1, SA-366G1, SA-365N, SA-365N1, AS-365N2, and AS 365 N3 helicopters, which requires modifying the fuel tank draining system. This AD is prompted by a closed fuel tank drain that, in the event of a fuel leak, could result in fuel accumulating in an area containing electrical equipment. The actions are intended to prevent accumulation of fuel in an area with electrical equipment or another ignition source, which may lead to a fire.

DATES: This AD is effective August 2, 2013.

The Director of the Federal Register approved the incorporation by reference of certain documents listed in this AD as of August 2, 2013.

ADDRESSES: For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Chinh Vuong, Aviation Safety Engineer, Safety Management Group, Rotorcraft Directorate, FAA, 2601 Meacham Blvd., Fort Worth, Texas 76137; telephone (817) 222-5110; email chinh.vuong@faa.gov.

SUPPLEMENTARY INFORMATION:

Discussion

On November 26, 2012, at 77 FR 70382, the Federal Register published our notice of proposed rulemaking (NPRM), which proposed to amend 14 CFR part 39 to include an AD that would apply to Eurocopter France Model EC 155B, EC155B1, SA-366G1, SA-365N, SA-365N1, AS-365N2, and AS 365 N3 helicopters. The NPRM proposed to require modifying the fuel tank draining system. The proposed requirements were intended to prevent accumulation of fuel in an area with electrical equipment or other ignition source, which may lead to a fire.

The European Aviation Safety Agency (EASA), which is the Technical Agent for the Member States of the European Union, issued EASA AD No. 2011-0190, dated September 30, 2011 (AD No. 2011-0190), to correct an unsafe condition for the Eurocopter France EC 155, SA 366, SA 365, and AS 365 model helicopters, except those with certain modifications. EASA reports that the fuel tank drains were closed with plugs during production to maintain buoyancy during emergency landings in water. EASA states that this closing of the fuel tank drains with plugs “disregards compliance with an airworthiness certification requirement” and, in the event of a fuel leak in flight, creates “the risk of fuel accumulation and/or migration” to an adjacent area that may contain electrical equipment “susceptible of constituting a source of ignition.” EASA states that this condition, if not corrected, could result in ignition of fuel vapors, “resulting in a fire and consequent damage to the helicopter, or injury to its occupants.” As a result, EASA required modification of the fuel tank compartments' draining system.

Comments

After our NPRM (77 FR 70382, November 26, 2012) was published, we received comments from one commenter.

Request

The commenter called this “a health and safety issue” and stated that the repairs should be done immediately, as the costs of the repair are relatively minor.

We partially agree. We are not requiring that the repairs be accomplished immediately. We evaluated the safety data and determined that allowing helicopter owners and operators time to plan and obtain parts to make the repairs would not adversely affect safety.

FAA's Determination

These helicopters have been approved by the aviation authority of France and are approved for operation in the United States. Pursuant to our bilateral agreement with France, EASA, its technical representative, has notified us of the unsafe condition described in its AD. We are issuing this AD because we evaluated all information provided by EASA, reviewed the relevant information, considered the comments received, and determined the unsafe condition exists and is likely to exist or develop on other helicopters of these same type designs and that air safety and the public interest require adopting the AD requirements as proposed.

Differences Between This AD and the EASA AD

We require within six months modifying the fuel tank drain system for helicopters with an emergency buoyancy system. EASA requires compliance within 24 months.

Related Service Information

Eurocopter issued Alert Service Bulletin (ASB) No. EC155-53A031 for its B and B1 model helicopters, ASB No. AS366-53.11 for its G1 model helicopters, and ASB No. AS365-53.00.50 for its N, N1, N2 and N3 model helicopters. The ASBs were all dated May 3, 2011, and were all followed with Revision 1 dated September 21, 2011.

For helicopters not equipped with emergency buoyancy fixed parts, the ASBs describe procedures to modify the fuel tank draining system by removing drain plugs in the fuel tanks, to make draining possible. For helicopters equipped with emergency buoyancy fixed parts, the ASBs contain additional procedures to seal one drain plug per fuel tank compartment and to install new drain points and self-sealing drain valves in specified fuel tanks. EASA AD No. 2011-0190 classifies these ASBs as mandatory to ensure the airworthiness of these helicopters.

Costs of Compliance

We estimate that this AD affects 46 helicopters of U.S. Registry and that labor costs average $85 per work-hour. Based on these estimates, we expect the following costs:

Sealing drain plugs, and installing new drain points and self-sealing drain valves at other locations on helicopters equipped with emergency buoyancy fixed parts require 16 work-hours. Parts cost $11,154 for a total cost of $12,514 per helicopter. For helicopters equipped with emergency buoyancy fixed parts and a sixth fuel tank, this work instead requires 17 work-hours for a total cost of $12,599 per helicopter.

Removing drain plugs on helicopters not equipped with emergency buoyancy fixed parts requires one work-hour and no parts for a total cost of $85 per helicopter. For helicopters not equipped with emergency buoyancy fixed parts but equipped with a sixth fuel tank, this work instead requires two work-hours for a total cost of $170 per helicopter.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-12-04 Eurocopter France Helicopters: Amendment 39-17482; Docket No. FAA-2012-1214; Directorate Identifier 2011-SW-071-AD.

(a) Applicability

This AD applies to Eurocopter France Model EC 155B, EC155B1, and SA-366G1 helicopters, except those with modification 365A084485.00, or modifications 0753C98 and 0745C96; and Model SA-365N, SA-365N1, AS-365N2, and AS 365 N3 helicopters, except those with modifications 0753C98, 0745C96, and (if a sixth fuel tank is installed) 365A081003.00, or modification 365A081003.00 and (if a sixth fuel tank is installed) 365A084485.00.

(b) Unsafe Condition

This AD defines the unsafe condition as a closed fuel tank drain that, in the event of a fuel leak, could result in fuel accumulating in an area containing electrical equipment or other ignition source. This condition could result in a fire in the helicopter.

(c) Effective Date

This AD becomes effective August 2, 2013.

(d) Compliance

You are responsible for performing each action required by this AD within the specified compliance time unless it has already been accomplished prior to that time.

(e) Required Actions

(1) Within 110 hours time-in-service (TIS):

(i) For helicopters without an emergency buoyancy system, remove the fuel tank drain plugs listed in the Accomplishment Instructions, paragraph 3.B.2.b., of Eurocopter Alert Service Bulletin (ASB) No. EC155-53A031, Revision 1, dated September 21, 2011 (ASB 155); ASB No. AS365-53.00.50, Revision 1, dated September 21, 2011 (ASB 365), or ASB No. AS366-53.11, Revision 1, dated September 21, 2011 (ASB 366), as appropriate for your model helicopter.

(ii) For the Model SA-365N, SA-365N1, AS-365N2, and AS 365 N3 helicopters, if there is an optional sixth fuel tank installed, install a self-sealing drain valve in accordance with paragraph 3.B.2.c. of ASB 365.

(2) Within six months:

(i) For helicopters with an emergency buoyancy system, modify the fuel tank drain system in accordance with the Accomplishment Instructions, paragraphs 3.B.2.a.1. through 3.B.2.a.3, of the ASB appropriate for your model helicopter.

(ii) For the Model SA-365N, SA-365N1, AS-365N2, AS 365 N3 helicopters, if there is an optional sixth fuel tank installed, install a self-sealing drain valve in accordance with paragraph 3.B.2.c. of ASB 365.

(f) Alternative Methods of Compliance (AMOCs)

(1) The Manager, Safety Management Group, FAA, may approve AMOCs for this AD. Send your proposal to: Chinh Vuong, Aviation Safety Engineer, Safety Management Group, Rotorcraft Directorate, FAA, 2601 Meacham Blvd., Fort Worth, Texas 76137; telephone (817) 222-5110; email chinh.vuong@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2011-0190, dated September 30, 2011. You may view the EASA AD at http://www.regulations.gov by searching for and locating it in Docket No. FAA-2012-1214.

(h) Subject

Joint Aircraft Service Component (JASC) Code: 2810, fuel storage.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Alert Service Bulletin No. EC155-53A031, Revision 1, dated September 21, 2011.

(ii) Eurocopter Alert Service Bulletin No. AS365-53.00.50, Revision 1, dated September 21, 2011.

(iii) Eurocopter Alert Service Bulletin No. AS366-53.11, Revision 1, dated September 21, 2011.

(3) For Eurocopter service information identified in this AD, contact American Eurocopter Corporation, 2701 N. Forum Drive, Grand Prairie, TX 75052; telephone (972) 641-0000 or (800) 232-0323; fax (972) 641-3775; or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on June 13, 2013.
Kim Smith,
Directorate Manager, Rotorcraft Directorate, Aircraft Certification Service.

[FR Doc. 2013-14826 Filed 6-27-13; 8:45 am]

BILLING CODE 4910-13-P